INTERNATIONAL TRADE COMMISSION

[Investigation No. 337-TA-1334 (Enforcement)]

Certain Raised Garden Beds and Components Thereof; Notice of Institution of Formal Enforcement Proceeding

AGENCY: U.S. International Trade Commission.

ACTION: Notice.

SUMMARY: Notice is hereby given that the U.S. International Trade Commission (“Commission”) has determined to institute a formal enforcement proceeding relating to the limited exclusion order (“LEO”) and cease and desist order (“CDO”) issued on March 21, 2024, in the above-referenced investigation.

FOR FURTHER INFORMATION CONTACT: Edward S. Jou, Esq., Office of the General Counsel, U.S. International Trade Commission, 500 E Street SW, Washington, DC 20436, telephone (202) 205-3316. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted the underlying investigation on October 19, 2022, based on an amended complaint filed by Vego Garden, Inc. of Houston, Texas (“Vego Garden”). 87 FR 63527-28 (Oct. 19, 2022). The Commission determined to investigate alleged violations of section 337 of the Tariff Act of 1930, as amended, 19 U.S.C. 1337, based upon the importation into the United States, and in the sale of, certain raised garden beds and components thereof by reason of misappropriation of trade secrets and unfair competition, the threat or effect of which is to destroy or substantially injure a domestic industry. Id. at 63527.

The Commission's notice of investigation named five respondents, and the name of one of the respondents was corrected by amendment. See 88 FR 2637-38 (Jan. 17, 2023). The five named respondents, as amended, were: Huizhou Green Giant Technology Co., Ltd. (“Green Giant”) of Guangdong, China; Utopban International Trading Co., Ltd. d/b/a Vegega (“Utopban International”) of Rosemead, California; Utopban Limited (“Utopban”) of Hong Kong; Forever Garden of El Monte, California; and VegHerb, LLC d/b/a Frame It All (“VegHerb”) of Cary, North Carolina. See id. at 2638. The Office of Unfair Import Investigations (“OUII”) was also named as a party. Id.

The investigation was terminated as to Utopban International based on withdrawal of the complaint's allegations. Order No. 9 (Jan. 30, 2023), unreviewed by Comm'n Notice (Feb. 27, 2023). The investigation was terminated as to Forever Garden and VegHerb based on settlement agreements. Order No. 11 (Feb. 23, 2023) (VegHerb) and Order No. 12 (Feb. 23, 2023) (Forever Garden), both unreviewed by Comm'n Notice (Mar. 23, 2023).

The presiding Administrative Law Judge issued a final initial determination (the “Final ID”) on September 8, 2023, finding a violation of section 337 based on trade secret misappropriation and false advertising.

On January 9, 2024, the Commission determined to review the Final ID's findings in part. 89 FR 2645-47 (Jan. 16, 2024). On March 21, 2024, the Commission affirmed-in-part and reversed-in-part the Final ID, finding a violation of section 337 based on trade secret misappropriation and false advertising. 89 FR 21270-71 (Mar. 27, 2024). On the same day, the Commission issued an opinion explaining the basis for its final determination and issued a LEO for Green Giant and Utopban and a CDO for Utopban. Id.

On May 21, 2024, complainant Vego Innovations, Inc. f/k/a Vego Garden (“Vego”) filed a complaint (the “Enforcement Complaint”) requesting that the Commission institute an enforcement proceeding to investigate alleged violations of the LEO and CDO by Green Giant and Utopban d/b/a Vegega. In the Enforcement Complaint, Vego alleges that Green Giant and Utopban have continued to import, sell, offer for sale, market, advertise, distribute, transfer, and/or solicit agents or distributors for products that are manufactured using a misappropriated trade secret.

Having examined the Enforcement Complaint and the supporting documents, the Commission has determined to institute a formal enforcement proceeding, pursuant to Commission Rule 210.75(a) (19 CFR 210.75(a)), to determine whether a violation of the LEO and CDO, issued on March 21, 2024, in this investigation has occurred and to determine what, if any, enforcement measures are appropriate. The named respondents are Huizhou Green Giant Technology Co., Ltd. of Guangdong, China and Utopban Limited d/b/a Vegega of Hong Kong.

The Commission vote for this determination took place on June 20, 2024.

The authority for the Commission's determination is contained in section 337 of the Tariff Act of 1930, as amended (19 U.S.C. 1337), and in part 210 of the Commission's Rules of Practice and Procedure (19 CFR part 210).

By order of the Commission.
Issued: June 20, 2024.
Lisa Barton,
Secretary to the Commission.

[FR Doc. 2024-13971 Filed 6-25-24; 8:45 am]

BILLING CODE 7020-02-P